DEPARTMENT OF HOUSING AND URBAN DEVELOPMENT

[Docket No. FR-4572-D-03]

Delegation of Authority, Appraiser Roster Removal, 24 CFR 200.204

AGENCY: Office of the Assistant Secretary for Housing-FHA Commissioner, HUD.

ACTION: Notice of the delegation of authority to remove appraisers from the FHA roster pursuant to the HUD regulation at 24 CFR part 200.

SUMMARY: In this notice the Assistant Secretary for Housing delegates to certain HUD officials in the FHA Single Family Homeownership Centers (HOCs) in Philadelphia, PA; Atlanta, GA; Denver, CO and Santa Ana, CA, the power and authority to issue notices of removal from the FHA roster for cause to unsatisfactory appraisers who have been found in violation of the HUD regulations at 24 CFR 200.204(a)(1).

EFFECTIVE DATE: July 27, 2000.

FOR FURTHER INFORMATION CONTACT: Vance T. Morris, Director, Office of Insured Single Family Housing Program Development, Room 9266, U.S. Department of Housing and Urban Development, 451 Seventh Street, SW, Washington, DC 20410; telephone (202) 708-2700 (this is not a toll-free number). This number may be accessed via TTY by calling the Federal Information Relay Service at 1-800-877-8339.

SUPPLEMENTARY INFORMATION: On May 5, 2000, the final rule implementing the FHA appraiser roster removal procedures became effective. The final rule, 24 CFR 200.204, sets forth the reasons for removing an appraiser from the FHA roster, the procedures for removal and reinstatement of the appraiser, and the types of remedies available to the Department against an appraiser found to have violated HUD statutes or regulations. The Assistant Secretary of Housing is hereby delegating the power and authority to issue written notices of proposed removal, and to process any appeals of the notice of proposed removal, including conducting an informal conference if requested by the appraiser, to designated officials in each HOC. This delegation is subject to the limitations in Section B below.

Section A. Delegation of Authority

1. Notices of Proposed Roster Removal: In accordance with 24 CFR 200.204(a)(2)(i), the Director of the Processing and Underwriting Division within each HOC, or a Branch Chief of a Technical Branch within that Division, may issue the written notice of proposed roster removal to the appraiser. This notice will include the reasons for the proposed removal and the duration of the removal.

2. Appeals of Proposed Roster Removals

In accordance with 24 CFR 200.204(a)(2)(ii), appeals of the notice of proposed removal, including conducting an informal conference if so requested by the appraiser, are to be handled by the Director of the HOC, or the HOC Deputy Director. Also, in accordance with 24 CFR 200.204(a)(2)(iii), within 30 days of receiving a written response from an appraiser, or within 30 days of the completion of an informal conference, the Director or Deputy Director of the HOC will review the appraiser's appeal and will issue a final decision either affirming, modifying or canceling an appraiser's removal from the appraiser roster. The time period for responding to an appraiser's appeal may be extended upon notice to the appraiser. The HOC Director or Deputy Director may not be involved in HUD's initial removal decision.

Section B. Limitations on Authority

1. Waiver of HUD Regulations: The authority delegated by this memorandum does not include the authority to waive HUD regulations.

2. Term of Delegation: Unless sooner revoked in writing, by the Assistant Secretary, this delegation shall automatically expire one year from the date of its authorization. Upon expiration, the delegation may be renewed or revised.

3. Re-delegation of Authority: The authority delegated herein may not be re-delegated.

Authority: Single Family Mortgage Insurance; Appraiser Roster Removal Procedures, 24 CFR part 200.

Dated: July 27, 2000.
Gary R. Eisenman,
General Deputy Assistant Secretary for Housing.

[FR Doc. 00-20254 Filed 8-9-00; 8:45 am]

BILLING CODE 4210-27-P